NUCLEAR REGULATORY COMMISSION

[NRC-2016-0019]

Biweekly Notice; Applications and Amendments to Facility Operating Licenses and Combined Licenses Involving No Significant Hazards Considerations

AGENCY: Nuclear Regulatory Commission.

ACTION: Biweekly notice.

SUMMARY: Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from January 5, 2016, to January 15, 2016. The last biweekly notice was published on January 19, 2016.

DATES: Comments must be filed by March 3, 2016. A request for a hearing must be filed by April 4, 2016.

ADDRESSES: You may submit comments by any of the following methods (unless this document describes a different method for submitting comments on a specific subject):

• Federal Rulemaking Web site: Go to http://www.regulations.gov and search for Docket ID NRC-2016-0019. Address questions about NRC dockets to Carol Gallagher; telephone: 301-415-3463; email: Carol.Gallagher@nrc.gov.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Janet Burkhardt, Office of Nuclear Reactor Regulation, U.S. Nuclear Regulatory Commission, Washington, DC 20555-0001; telephone: 301-415-1384, email: Janet.Burkhardt@nrc.gov.

SUPPLEMENTARY INFORMATION:

I. Obtaining Information and Submitting Comments

A. Obtaining Information

Please refer to Docket ID NRC-2016-0019 when contacting the NRC about the availability of information for this action. You may obtain publicly-available information related to this action by any of the following methods:

• Federal Rulemaking Web site: Go to http://www.regulations.gov and search for Docket ID NRC-2016-0019.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section of this document.

• NRC's PDR: You may examine and purchase copies of public documents at the NRC's PDR, Room O1-F21, One White Flint North, 11555 Rockville Pike, Rockville, Maryland 20852.

B. Submitting Comments

Please include Docket ID NRC-2016-0019, facility name, unit number(s), application date, and subject in your comment submission.

The NRC cautions you not to include identifying or contact information that you do not want to be publicly disclosed in your comment submission. The NRC posts all comment submissions at http://www.regulations.gov, as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, (2) create the possibility of a new or different kind of accident from any accident previously evaluated, or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing with respect to resolution of that person's admitted contentions, including the opportunity to present evidence and to submit a cross-examination plan for cross-examination of witnesses, consistent with NRC regulations, policies and procedures.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission by April 4, 2016. The petition must be filed in accordance with the filing instructions in the “Electronic Submissions (E-Filing)” section of this document, and should meet the requirements for petitions for leave to intervene set forth in this section, except that under § 2.309(h)(2) a State, local governmental body, or Federally-recognized Indian Tribe, or agency thereof does not need to address the standing requirements in 10 CFR 2.309(d) if the facility is located within its boundaries. A State, local governmental body, Federally-recognized Indian Tribe, or agency thereof may also have the opportunity to participate under 10 CFR 2.315(c).

If a hearing is granted, any person who does not wish, or is not qualified, to become a party to the proceeding may, in the discretion of the presiding officer, be permitted to make a limited appearance pursuant to the provisions of 10 CFR 2.315(a). A person making a limited appearance may make an oral or written statement of position on the issues, but may not otherwise participate in the proceeding. A limited appearance may be made at any session of the hearing or at any prehearing conference, subject to the limits and conditions as may be imposed by the presiding officer. Persons desiring to make a limited appearance are requested to inform the Secretary of the Commission by April 4, 2016.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Exelon Generation Company, LLC, Docket Nos. 50-373 and 50-374, LaSalle County Station (LSCS), Units 1 and 2, LaSalle County, Illinois

Date of amendment request: November 19, 2015. A publicly available version is in ADAMS under Accession No. ML15324A309.

Description of amendment request: The proposed amendments would revise LSCS Technical Specifications (TS) Section 2.1.1, “Reactor Core SLs,” to reflect a lower reactor steam dome pressure stated for Reactor Core Safety Limits (SLs) 2.1.1.1 and 2.1.1.2. Specifically, the proposed amendment will reduce the reactor steam dome pressure in TS SLs 2.1.1.1 and 2.1.1.2 from 785 psig [pound per square inch gage] to 685 psig. This change to TS Section 2.1.1 was identified as a result of General Electric Part 21 report SC05-03, “Potential to Exceed Low Pressure Technical Specification Safety Limit.” This change is valid for the NRC-approved pressure range pertinent to the critical power correlations applied to the fuel types in use at LSCS.

Basis for proposed no significant hazards consideration determination: As required by 10 CFR 50.91(a), the licensee has provided its analysis of the issue of no significant hazards consideration, which is presented below:

1. Does the proposed change involve a significant increase in the probability or consequences of an accident previously evaluated?

Response: No.

The proposed change to the reactor steam dome pressure in the LSCS Reactor Core Safety Limits TS 2.1.1.1 and 2.1.1.2 does not alter the use of the analytical methods used to determine the safety limits that have been previously reviewed and approved by the NRC. The proposed change is in accordance with an NRC approved critical power correlation methodology, and as such, maintains required safety margins. The proposed change does not adversely affect accident initiators or precursors, nor does it alter the design assumptions, conditions, or configuration of the facility or the manner in which the plant is operated and maintained.

The proposed change does not alter or prevent the ability of structures, systems, and components (SSCs) from performing their intended function to mitigate the consequences of an initiating event within the assumed acceptance limits. The proposed change does not require any physical change to any plant SSCs nor does it require any change in systems or plant operations. The proposed change is consistent with the safety analysis assumptions and resultant consequences.

Therefore, the proposed change does not involve a significant increase in the probability or consequences of an accident previously evaluated.

2. Does the proposed change create the possibility of a new or different kind of accident from any accident previously evaluated?

Response: No.

The proposed reduction in the reactor dome pressure safety limit from 785 psig to 685 psig is a change based upon previously approved documents and does not involve changes to the plant hardware or its operating characteristics. As a result, no new failure modes are being introduced.

There are no hardware changes nor are there any changes in the method by which any plant systems perform a safety function. No new accident scenarios, failure mechanisms, or limiting single failures are introduced as a result of the proposed change.

The proposed change does not introduce any new accident precursors, nor does it involve any physical plant alterations or changes in the methods governing normal plant operation. Also, the change does not impose any new or different requirements or eliminate any existing requirements. The change does not alter assumptions made in the safety analysis.

Therefore, the proposed change does not create the possibility of a new or different kind of accident from any previously evaluated.

3. Does the proposed change involve a significant reduction in a margin of safety?

Response: No.

The margin of safety is established through the design of the plant structures, systems, and components, and through the parameters for safe operation and setpoints for the actuation of equipment relied upon to respond to transients and design basis accidents.

Evaluation of the 10 CFR part 21 condition by General Electric determined that since the Minimum Critical Power Ratio improves during the PRFO [Pressure Regulator Failure Maximum Demand (Open)] transient, there is no decrease in the safety margin and therefore there is not a threat to fuel cladding integrity.

The proposed change in reactor dome pressure supports the current safety margin, which protects the fuel cladding integrity during a depressurization transient, but does not change the requirements governing operation or availability of safety equipment assumed to operate to preserve the margin of safety. The change does not alter the behavior of plant equipment, which remains unchanged.

The proposed change to Reactor Core Safety Limits 2.1.1.1 and 2.1.1.2 is consistent with and within the capabilities of the applicable NRC approved critical power correlation for the fuel designs in use at LSCS, Units 1 and 2. No setpoints at which protective actions are initiated are altered by the proposed change.

The proposed change does not alter the manner in which the safety limits are determined. This change is consistent with plant design and does not change the TS operability requirements; thus, previously evaluated accidents are not affected by this proposed change.

Therefore, the proposed changes do not involve a significant reduction in a margin of safety.

The NRC staff has reviewed the licensee's analysis and, based on this review, it appears that the three standards of 10 CFR 50.92(c) are satisfied. Therefore, the NRC staff proposes to determine that the requested amendments involve no significant hazards consideration.

Attorney for licensee: Bradley J. Fewell, Associate General Counsel, Exelon Nuclear, 4300 Winfield Road, Warrenville, IL 60555.

NRC Acting Branch Chief: Justin C. Poole.

Exelon Generation Company, LLC, and PSEG Nuclear LLC, Docket Nos. 50-277 and 50-278, Peach Bottom Atomic Power Station, Units 2 and 3, York and Lancaster Counties, Pennsylvania

Date of amendment request: December 3, 2015. A publicly-available version is in ADAMS under Accession No. ML15337A413.

Description of amendment request: The amendments would revise the technical specification (TS) surveillance requirements (SRs) associated with the emergency diesel generator (EDG) fuel oil transfer system. Specifically, the amendments would allow for the crediting of manual actions, in lieu of automatic actions, without having to declare the EDGs inoperable.

Basis for proposed no significant hazards consideration determination: As required by 10 CFR 50.91(a), the licensee has provided its analysis of the issue of no significant hazards consideration, which is presented below:

1. Does the proposed change involve a significant increase in the probability or consequences of an accident previously evaluated?

Response: No.

The proposed change will revise SR 3.8.1.6 by adding a note to allow for procedurally controlled simple manual actions associated with the fuel oil transfer system without having to declare the EDG inoperable [under] administrative control. The fuel oil transfer system is required to support continuous operation of standby power sources. The surveillance provides assurance that the fuel oil transfer system is OPERABLE. The fuel oil transfer system is not an initiator of any event previously evaluated. Therefore, the probability of any accident previously evaluated is not increased.

In the event of an accident, if simple manual actions were necessary to restore the automatic feature of the EDG day tank fill, analysis shows that significant margin exists to ensure that EDG operability would not be adversely affected. Although the proposed change to allow simple manual actions could introduce additional potential malfunctions, such that human error could result in the potential to improperly realign the fuel oil transfer system during a DBA [design-basis accident], the improper realignment would be detected when the transfer of fuel oil from the storage tank to the day tank did not occur as expected and the error would be corrected prior to having a significant impact.

The proposed change does not involve any physical changes to the structures, systems, or components (SSCs) in the plant. Further the proposed change does not alter or prevent the ability of SSCs from performing their intended function to mitigate the consequences of an event.

The proposed change is consistent with NRC regulatory requirements regarding the content of plant TS as identified in 10 CFR 50.36. Additionally, the proposed change is consistent with NUREG-1433, “Standard Technical Specifications General Electric BWR/4 Plants,” in that the word `automatically' is bracketed (i.e., optional or as required by plant design).

Therefore, the proposed change does not involve a significant increase in the probability or consequences of an accident previously evaluated.

2. Does the proposed change create the possibility of a new or different kind of accident from any accident previously evaluated?

Response: No.

The proposed change does not alter the physical design, safety limits, or safety analysis assumptions associated with the operation of the plant. Accordingly, the change does not introduce any new accident initiators, nor does it reduce or adversely affect the capabilities of any plant structure, system, or component to perform their safety function. Consequently, there are no new initiators that could result in a new or different kind of accident.

Therefore, the proposed change does not create the possibility of a new or different kind of accident from any accident previously evaluated.

3. Does the proposed change involve a significant reduction in a margin of safety?

Response: No.

The proposed change conforms to NRC regulatory guidance regarding the content of plant Technical Specifications. The proposed change does not alter the physical design, safety limits, or safety analysis assumptions associated with the operation of the plant. The proposed change has no adverse impact on current Safety Limits, Limiting Safety System Settings, Limiting Control Settings, Limiting Conditions for Operation, Surveillance Requirements, Design Features, or Administrative Controls.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Rd., Warrenville, IL 60555.

NRC Branch Chief: Douglas A. Broaddus.

South Carolina Electric and Gas Company, Docket Nos. 52-027 and 52-028, Virgil C. Summer Nuclear Station (VCSNS), Units 2 and 3, Fairfield County, South Carolina

Date of amendment request: December 17, 2015, and supplemented by letter dated January 11, 2016. Publicly-available versions are in ADAMS under Accession Nos. ML15351A452 and ML16011A500, respectively.

Description of amendment request: The proposed changes, if approved, would amend Combined License Nos. NPF-93 and NPR-94 for VCSNS, Units 2 and 3, respectively. The requested amendment proposes to change the design of the auxiliary building Wall 11 and other changes to the licensing basis for the use of Category II structures, such as Wall 11.2 in the turbine building. The changes in the proposed amendment are located primarily in the VCSNS Updated Final Safety Analysis Report (UFSAR) Tier 2* and Tier 2 information, and also require conforming changes to a license condition.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not adversely affect the operation of any systems or equipment inside or outside the auxiliary building that could initiate or mitigate abnormal events, e.g., accidents, anticipated operational occurrences, earthquakes, floods, tornado missiles, and turbine missiles, or their safety or design analyses, evaluated in the UFSAR. The changes do not adversely affect any design function of the auxiliary building or the systems and equipment contained therein. The ability of the affected auxiliary building [main steam isolation valve] MSIV compartments to withstand the pressurization effects from the design basis pipe rupture is not adversely affected by the removal of the Wall 11 upper vent openings, because vents at these locations are not credited in the subcompartment pressurization analysis. MSIV compartment temperatures following the limiting one square foot pipe rupture with the vent openings removed remain acceptably within the envelope for environmental qualification of equipment in the compartments. The credit of seismic Category II Wall 11.2 as a [high energy line break] HELB barrier and the seismic Category II turbine building first bay and associated missile barriers to protect Wall 11 openings from tornado missiles continues to provide adequate protection of structures, systems, and components (SSCs) required to safely shut down the plant, as these structures are designed to the same requirements as seismic Category I structures, and with the additional HELB loadings assumed, remain well within the applicable acceptance criteria.

Therefore, the proposed activity does not involve a significant increase in the probability or consequences of an accident previously evaluated.

2. Does the proposed amendment create the possibility of a new or different kind of accident from any accident previously evaluated?

Response: No.

The proposed changes do not change the design function of the auxiliary building or of any of the systems or equipment in the auxiliary building or elsewhere within the Nuclear Island structure. These proposed changes do not introduce any new equipment or components that would result in a new failure mode, malfunction or sequence of events that could affect safety-related or nonsafety-related equipment. This activity will not allow for a new fission product release path, result in a new fission product barrier failure mode, or create a new sequence of events that would result in significant fuel cladding failures.

Therefore, this activity does not create the possibility of a new or different kind of accident from any previously evaluated.

3. Does the proposed amendment involve a significant reduction in a margin of safety?

Response: No.

The margin of safety for the design of the auxiliary building is maintained through continued use of the current codes and standards as stated in the UFSAR and adherence to the assumptions used in the analyses of this structure and the events associated with this structure. The auxiliary building will continue to maintain a seismic Category I rating which preserves the current structural safety margins. The 3-hour fire rating requirements for the impacted auxiliary building walls are maintained. The Wall 11 upper vents are not credited in the subcompartment pressurization analysis and the remaining vents and pressure relief devices provide sufficient venting to maintain the MSIV compartment pressures below the design limit and design basis. The credit of turbine building Wall 11.2 as a HELB barrier provides protection of Wall 11 from selected dynamic effects, which in turn provides that essential SSCs remain protected from the effects of postulated HELB events. The credit of the seismic Category II turbine building first bay and associated missile barriers to provide protection of Wall 11 openings from tornado missiles provides sufficient protection for the essential SSCs located in the auxiliary building in the vicinity of Wall 11 from the effects of external missiles. Thus the requested changes will not adversely affect any safety-related equipment, design code, function, design analysis, safety analysis input or result, or design/safety margin. No safety analysis or design basis acceptance limit/criterion is challenged or exceeded by the requested change, thus, no margin of safety is reduced.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW., Washington, DC 20004-2514.

NRC Acting Branch Chief: John McKirgan.

Southern Nuclear Operating Company, Inc., Docket Nos. 52-025 and 52-026, Vogtle Electric Generating Plant, Units 3 and 4, Burke County, Georgia

Date of amendment request: November 16, 2015. A publicly-available version is in ADAMS under Accession No. ML15320A464.

Description of amendment request: The requested amendment proposes to depart from Tier 2* information in the Updated Final Safety Analysis Report related to the construction methods used for the composite floors and roof of the auxiliary building.

Basis for proposed no significant hazards consideration determination: As required by 10 CFR 50.91(a), the licensee has provided its analysis of the issue of no significant hazards consideration, which is presented below:

1. Does the proposed amendment involve a significant increase in the probability or consequences of an accident previously evaluated?

Response: No.

The design functions of the nuclear island structures are to provide support, protection, and separation for the seismic Category I mechanical and electrical equipment located in the nuclear island. The nuclear island structures are structurally designed to meet seismic Category I requirements as defined in Regulatory Guide 1.29.

The use of [American Concrete Institute (ACI)] 349 and [American Institute of Steel Construction (AISC)] N690 provides criteria for the design, qualification, fabrication, and inspection of composite steel beam floors and roof in the auxiliary building. These structures continue to meet the applicable portions of ACI 349 and AISC N690. The proposed change does not have an adverse impact on the response of the nuclear island structures to safe shutdown earthquake ground motions or loads due to anticipated transients or postulated accident conditions. The change does not impact the support, design, or operation of mechanical and fluid systems. There is no change to plant systems or the response of systems to postulated accident conditions. There is no change to the predicted radioactive releases due to normal operation or postulated accident conditions. The plant response to previously evaluated accidents or external events is not adversely affected, nor does the change described create any new accident precursors.

Therefore, the proposed amendment does not involve a significant increase in the probability or consequences of an accident previously evaluated.

2. Does the proposed amendment create the possibility of a new or different kind of accident from any accident previously evaluated?

Response: No.

The proposed change revises the description of the construction of composite steel beam floors and roof in the auxiliary building. The proposed change does not change the design function, support, design, or operation of mechanical and fluid systems. The proposed change does not result in a new failure mechanism for the pertinent structures or new accident precursors. As a result, the design function of the structures is not adversely affected by the proposed change.

Therefore, the proposed amendment does not create the possibility of a new or different kind of accident from any accident previously evaluated.

3. Does the proposed amendment involve a significant reduction in a margin of safety?

Response: No.

The proposed change is consistent with ACI 349 and AISC N690. The design and construction of the auxiliary building floors and roof remain in conformance with the requirements in ACI 349 and AISC N690.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North Birmingham, AL 35203-2015.

NRC Acting Branch Chief: John McKirgan.

Susquehanna Nuclear, LLC, Docket Nos. 50-387 and 50-388, Susquehanna Steam Electric Station, Units 1 and 2 (SSES), Luzerne County, Pennsylvania

Date of amendment request: March 19, 2015, as supplemented by letters dated October 15, 2015, October 16, 2015, and January 8, 2016. Publicly-available versions are in ADAMS under Package Accession Nos. ML15091A657, ML15296A048, and ML15296A057, and Accession No. ML16011A103, respectively.

Description of amendment request: The NRC staff previously made a proposed determination that the amendment request dated March 19, 2015, involved no significant hazards consideration (80 FR 38762; July 7, 2015). Subsequently, the supplemental letter dated October 15, 2015, provided additional information that expanded the scope of the application as originally noticed. Accordingly, this notice supersedes the previous notice in its entirety. The amendments would revise the Emergency Plan for SSES to adopt the Nuclear Energy Institute's (NEI's) revised emergency action level (EAL) scheme described in NEI 99-01, Revision 6, “Development of Emergency Action Levels for Non-Passive Reactors” (ADAMS Accession No. ML12326A805), which was endorsed by the NRC as documented in NRC letter dated March 28, 2013 (ADAMS Accession No. ML12346A463). Supplemental changes in these amendments were discussed in a September 23, 2015, public meeting held with Susquehanna Nuclear, LLC. The public meeting summary was issued October 9, 2015, and is available in ADAMS under Accession No. ML15278A492. The additional information, and the changes discussed at the public meeting, are included in the two Susquehanna Nuclear, LLC letters dated October 15, 2015, and October 16, 2015. The revised Emergency Plan includes the appropriate plant-specific changes as a result of an emergency operating procedure upgrade project and corrective action in response to an NRC Emergency Preparedness White Finding, documented in NRC Inspection Report No. 05000387/2015504 and 05000388/2015504, dated June 22, 2015 (ADAMS Accession Nos. ML15173A297 and ML15181A332).

On June 1, 2015, the NRC staff issued an amendment changing the name on the SSES license from PPL Susquehanna, LLC to Susquehanna Nuclear, LLC. This amendment was issued subsequent to an order issued on April 10, 2015, to SSES, approving an indirect license transfer.

Basis for proposed no significant hazards consideration determination: As required by 10 CFR 50.91(a), the licensee has provided its analysis of the issue of no significant hazards consideration, which is presented below, along with NRC edits in square brackets:

1. Does the proposed change involve a significant increase in the probability or consequences of any accident previously evaluated?

Response: No.

The proposed changes to the EAL scheme to adopt the NRC-endorsed guidance in NEI 99-01, Revision 6, “Development of Emergency Action Levels for Non-Passive Reactors,” [and the additional plant-specific Emergency Plan changes] do not reduce the capability to meet the emergency planning requirements established in 10 CFR 50.47 and 10 CFR 50, Appendix E. The proposed changes do not reduce the functionality, performance, or capability of the ERO [Emergency Response Organization] to respond in mitigating the consequences of any design basis accident.

The probability of a reactor accident requiring implementation of Emergency Plan EALs has no relevance in determining whether the proposed changes to the EALs reduce the effectiveness of the Emergency Plan. As discussed in Section I.D, “Planning Basis,” of NUREG-0654, Revision 1, “Criteria for Preparation and Evaluation of Radiological Emergency Response Plans and Preparedness in Support of Nuclear Power Plants”;

. . . The overall objective of emergency response plans is to provide dose savings (and in some cases immediate life saving) for a spectrum of accidents that could produce offsite doses in excess of Protective Action Guides (PAGs). No single specific accident sequence should be isolated as the one for which to plan because each accident could have different consequences, both in nature and degree. Further, the range of possible selection for a planning basis is very large, starting with a zero point of requiring no planning at all because significant offsite radiological accident consequences are unlikely to occur, to planning for the worst possible accident, regardless of its extremely low likelihood. . . .

Therefore, risk insights are not considered for any specific accident initiation or progression in evaluating the proposed changes.

The proposed changes do not involve any physical changes to plant equipment or systems, nor do they alter the assumptions of any accident analyses. The proposed changes do not adversely affect accident initiators or precursors nor do they alter the design assumptions, conditions, and configuration or the manner in which the plants are operated and maintained. The proposed changes do not adversely affect the ability of Structures, Systems, or Components (SSCs) to perform their intended safety functions in mitigating the consequences of an initiating event within the assumed acceptance limits.

Therefore, the proposed changes do not involve a significant increase in the probability or consequences of an accident previously evaluated.

2. Does the proposed change create the possibility of a new or different kind of accident from any accident previously evaluated?

Response: No.

The proposed changes to the EAL scheme to adopt the NRC-endorsed guidance in NEI 99-01, Revision 6, [and the additional plant-specific Emergency Plan changes] do not involve any physical changes to plant systems or equipment. The proposed changes do not involve the addition of any new plant equipment. The proposed changes will not alter the design configuration, or method of operation of plant equipment beyond its normal functional capabilities. All ERO functions will continue to be performed as required. The proposed changes do not create any new credible failure mechanisms, malfunctions, or accident initiators.

Therefore, the proposed changes do not create the possibility of a new or different kind of accident from those that have been previously evaluated.

3. Does the proposed change involve a significant reduction in a margin of safety?

Response: No.

The proposed changes to the EAL scheme to adopt the NRC-endorsed guidance in NEI 99-01, Revision 6, [and the additional plant-specific Emergency Plan changes] do not alter or exceed a design basis or safety limit. There is no change being made to safety analysis assumptions, safety limit, or limiting safety system settings that would adversely affect plant safety as a result of the proposed changes. There are no changes to setpoints or environmental conditions of any SSC or the manner in which any SSC is operated. Margins of safety are unaffected by the proposed changes to adopt the NEI 99-01, Revision 6 EAL scheme guidance. The applicable requirements of 10 CFR 50.47 and 10 CFR 50, Appendix E will continue to be met.

Therefore, the proposed changes do not involve any reduction in a margin of safety.

The NRC staff has reviewed the licensee's analysis and, based on this review, it appears that the three standards of 10 CFR 50.92(c) are satisfied. Therefore, the NRC staff proposes to determine that the amendment request involves no significant hazards consideration.

Attorney for licensee: Damon D. Obie, Associate General Counsel, Talen Energy Supply, LLC, 835 Hamilton St., Suite 150, Allentown, PA 18101.

NRC Branch Chief: Douglas A. Broaddus.

Tennessee Valley Authority, Docket No. 50-391, Watts Bar Nuclear Plant (WBN), Unit 2, Rhea County, Tennessee

Date of amendment request: December 15, 2015. A publicly-available version is in ADAMS under Accession No. ML15350A250.

Brief description of amendment request: The amendment would revise the technical specification (TS) surveillance requirements (SRs) for the WBN, Unit 2, ice condenser lower inlet doors.

Basis for proposed no significant hazards consideration determination: As required by 10 CFR 50.91(a), the licensee has provided its analysis of the issue of no significant hazards consideration, which is presented below:

1. Does the proposed amendment involve a significant increase in the probability or consequence of an accident previously evaluated?

Response: No.

The ice condenser is a passive heat removal plant feature. The proposed amendment to the TS 3.6.12 does not change the design, physical features or the function of the ice condenser or the ice condenser doors. The ice condenser is not an accident initiator, thus the proposed amendment does not increase the probability of an accident previously evaluated.

The ice condenser is credited in mitigating the consequences of postulated Design Basis Accidents (DBAs) and remains capable of performing its design basis functions. The proposed amendment to the SRs during the first cycle of WBN Unit 2 operation does not change the ice condenser configuration or how it behaves in the event of a DBA. Thus it is concluded that a significant increase in the consequences of an accident previously evaluated will not occur as a result of the proposed amendment.

Therefore, the proposed amendment does not involve a significant increase in the probability or consequences of an accident previously evaluated.

2. Does the proposed amendment create the possibility of a new or different kind of accident from any accident previously evaluated?

Response: No.

The proposed amendment does not create the possibility of a new or different kind of accident from any accident previously evaluated. The proposed amendment does not introduce any new modes of plant operation, change the design function of the ice condenser or any other Structure System or Component (SSC), or change the mode of operation of the ice condenser or any other SSC. There are no new equipment failure modes or malfunctions created as the ice condenser and ice condenser lower inlet doors continue to operate in the same manner assumed in the accident analysis. The ice condenser is a passive post-accident heat removal feature that is not an accident initiator.

Therefore, the proposed amendment does not create the possibility of a new or different kind of accident from any previously evaluated.

3. Does the proposed amendment involve a significant reduction in a margin of safety?

Response: No.

Ice condensers have been in-service at nine nuclear units in the United States for many years. Operating experience has shown that an 18-month surveillance frequency for evaluating operability is appropriate for the lower inlet doors. The proposed amendment to perform a revised schedule of lower inlet door surveillances in the first cycle before transitioning to the standard 18-month surveillance frequency does not result in a significant reduction in the margin of safety.

Therefore, since there is no adverse impact of this amendment on the WBN Unit 2 safety analysis, there is no significant reduction in the margin of safety of the plant.

The NRC staff has reviewed the licensee's analysis and, based on this review, it appears that the three standards of 10 CFR 50.92(c) are satisfied. Therefore, the NRC staff proposes to determine that the amendment request involves no significant hazards consideration.

Attorney for licensee: Scott A. Vance, Associate General Counsel, Nuclear, Tennessee Valley Authority, 400 West Summit Hill Drive, WT 6A-K, Knoxville, TN 37902.

NRC Branch Chief: Benjamin G. Beasley.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Progress, Inc., Docket Nos. 50-325 and 50-324, Brunswick Steam Electric Plant, Units 1 and 2, Brunswick County, North Carolina

Date of amendment request: January 30, 2015, as supplemented by letter dated November 23, 2015.

Brief description of amendments: The amendments authorized the upgrade of the emergency action level scheme for each unit based on the Nuclear Energy Institute (NEI) document NEI 99-01, Revision 6, “Development of Emergency Action Levels for Non-Passive Reactors,” dated November 2012. NEI 99-01, Revision 6, was endorsed by the NRC by letter dated March 28, 2013.

Date of issuance: January 8, 2016.

Effective date: As of the date of issuance and shall be implemented within 180 days of issuance.

Amendment Nos.: 268 (Unit 1) and 296 (Unit 2). A publicly-available version is in ADAMS under Accession No. ML15344A153; documents related to these amendments are listed in the Safety Evaluation enclosed with the amendments.

Renewed Facility Operating License Nos. DPR-71 and DPR-62: Amendments revised the Renewed Facility Operating Licenses.

Date of initial notice in Federal Register: April 28, 2015 (80 FR 23602). The supplemental letter dated November 23, 2015, provided additional information that clarified the application, did not expand the scope of the application as originally noticed, and did not change the staff's original proposed no significant hazards consideration determination as published in the Federal Register.

The Commission's related evaluation of the amendments is contained in a Safety Evaluation dated January 8, 2016.

No significant hazards consideration comments received: No.

Entergy Nuclear Operations, Inc., Docket Nos. 50-003, 50-247, and 50-286, Indian Point Nuclear Generating Station (IP), Unit Nos. 1, 2, and 3, and Docket No. 72-51 for IP Independent Spent Fuel Storage Installation (ISFSI), Westchester County, New York

Date of application for amendments: August 20, 2013, as supplemented by letters dated November 21, 2013, and May 13 and July 24, 2014.

Brief description of amendments: The amendments modified the licenses to reflect a grant of Section 161A of the Atomic Energy Act, to authorize the licensee the authority to possess and use certain firearms, ammunition, and other devices such as large-capacity ammunition feeding devices, and to implement the NRC-approved security plan for IP including the general-licensed ISFSI.

Date of issuance: January 5, 2016.

Effective date: As of its date of issuance and shall be implemented within 20 days.

Amendment Nos.: Unit 1—58, Unit 2—282, and Unit 3—259. A publicly-available version is in ADAMS under Package Accession No. ML14259A209; documents related to these amendments are listed in the Safety Evaluation enclosed with the amendment.

Facility Operating License Nos. DPR-5, DPR-26, and DPR-64 and Special Nuclear Materials General-License: The amendments revised the Facility Operating Licenses including the general-licensed ISFSI.

Date of initial notice in Federal Register: February 27, 2014 (79 FR 11147).

The Commission's related evaluation of the amendments is contained in a Safety Evaluation dated January 5, 2016.

No significant hazards consideration comments received: No.

Entergy Nuclear Operations, Inc., Docket No. 50-333, James A. Fitzpatrick Nuclear Power Plant (Fitzpatrick), and Docket No. 72-12 for Fitzpatrick Independent Spent Fuel Storage Installation (ISFSI), Oswego County, New York

Date of application for amendment: August 30, 2013, as supplemented by letters dated November 12, 2013, May 14, and July 11, 2014, and January 15, 2015.

Brief description of amendment: The amendment modified the licenses to reflect a grant of Section 161A of the Atomic Energy Act, to authorize the licensee the authority to possess and use certain firearms, ammunition, and other devices such as large-capacity ammunition feeding devices, and to implement the NRC-approved security plan for Fitzpatrick including the general-licensed ISFSI.

Date of issuance: January 5, 2016.

Effective date: As of its date of issuance and shall be implemented within 20 days.

Amendment No.: 310. A publicly-available version is in ADAMS under package Accession No. v; documents related to this amendment are listed in the Safety Evaluation enclosed with the amendment.

Renewed Facility Operating License No. DPR-59 and Special Nuclear Materials General-License: The amendment revised the Renewed Facility Operating License including the general-licensed ISFSI.

Date of initial notice in Federal Register: May 6, 2014 (79 FR 25900).

The Commission's related evaluation of the amendment is contained in a Safety Evaluation dated January 5, 2016.

No significant hazards consideration comments received: No.

Exelon Generation Company, LLC, Docket No. 50-410, Nine Mile Point Nuclear Station (NMP), Unit 2, Oswego County, New York

Date of amendment request: September 3, 2015.

Brief description of amendment: The amendment changed Technical Specification (TS) Section 2.1.1.2, “Reactor Core SLs [Safety Limits],” to revise the cycle-specific safety limit minimum critical power ratio for Cycle 16 for NMP, Unit 2.

Date of issuance: January 5, 2016.

Effective date: As of the date of issuance and shall be implemented prior to startup from the refueling outage where Global Nuclear Fuel 2 is loaded.

Amendment No.: 153. A publicly-available version is in ADAMS under Accession No. ML15341A336; documents related to this amendment are listed in the Safety Evaluation enclosed with the amendment.

Renewed Facility Operating License No. NPF-69: Amendment revised the Renewed Facility Operating License and TSs.

Date of initial notice in Federal Register: November 3, 2015 (80 FR 67801).

The Commission's related evaluation of the amendment is contained in a Safety Evaluation dated January 5, 2016.

No significant hazards consideration comments received: No.

Exelon Generation Company, LLC, Docket Nos. 50-220 and 50-410, Nine Mile Point Nuclear Station, Units 1 and 2 (NMP), and Docket No. 72-1036 for NMP Independent Spent Fuel Storage Installation (ISFSI), Oswego County, New York

Date of application for amendments: August 14, 2013, as supplemented by letters dated September 10, 2013, and May 14, 2014.

Brief description of amendments: The amendments modified the licenses to reflect a grant of Section 161A of the Atomic Energy Act, to authorize the licensee the authority to possess and use certain firearms, ammunition, and other devices such as large-capacity ammunition feeding devices, and to implement the NRC-approved security plan for NMP including the general-licensed ISFSI.

Date of issuance: January 5, 2016.

Effective date: As of its date of issuance and shall be implemented within 20 days.

Amendment Nos.: Unit 1—220; Unit 2—154. A publicly-available version is in ADAMS under Package Accession No. ML14254A450; documents related to these amendments are listed in the Safety Evaluation enclosed with the amendments.

Renewed Facility Operating License Nos. DPR-63 and NPF-69, and Special Nuclear Materials General-License: The amendments revised the Renewed Facility Operating Licenses including the general-licensed ISFSI.

Date of initial notice in Federal Register: October 27, 2014 (79 FR 63956).

The Commission's related evaluation of the amendments is contained in a Safety Evaluation dated January 5, 2016.

No significant hazards consideration comments received: No.

Exelon Generation Company, LLC, Docket No. 50-244, R.E. Ginna Nuclear Power Plant (Ginna), and Docket No. 72-67 for Ginna Independent Spent Fuel Storage Installation (ISFSI), Wayne County, New York

Date of application for amendment: August 14, 2013, as supplemented by letters dated November 4, 2013, and May 14, 2014.

Brief description of amendment: The amendment modified the licenses to reflect a grant of Section 161A of the Atomic Energy Act, to authorize the licensee the authority to possess and use certain firearms, ammunition, and other devices such as large-capacity ammunition feeding devices, and to implement the NRC-approved security plan for Ginna including the general-licensed ISFSI.

Date of issuance: January 5, 2016.

Effective date: As of its date of issuance and shall be implemented within 20 days.

Amendment No.: 120. A publicly-available version is in ADAMS under Package Accession No. ML14260A140; documents related to this amendment are listed in the Safety Evaluation enclosed with the amendment.

Renewed Facility Operating License No. DPR-18 and Special Nuclear Materials General-License: The amendment revised the Renewed Facility Operating License including the general-licensed ISFSI.

Date of initial notice in Federal Register: October 27, 2014 (79 FR 63951).

The Commission's related evaluation of the amendment is contained in a Safety Evaluation dated January 5, 2016.

No significant hazards consideration comments received: No.

Luminant Generation Company LLC, Docket Nos. 50-445 and 50-446, Comanche Peak Nuclear Power Plant, Unit Nos. 1 and 2 (CPNPP), Somervell County, Texas

Date of amendment request: January 28, 2015, as supplemented by letter dated July 29, 2015.

Brief description of amendments: The amendments revised Technical Specification (TS) 5.5.16, “Containment Leakage Rate Testing Program,” for CPNPP, to allow an increase in the 10 CFR part 50, Appendix J, “Primary Reactor Containment Leakage Testing for Water-Cooled Power Reactors,” Type A Integrated Leak Rate Test (ILRT) interval from a 10-year frequency to a maximum of 15 years and the extension of the containment isolation valves leakage Type C tests from its current 60-month frequency to 75 months in accordance with Nuclear Energy Institute (NEI) 94-01, Revision 3-A, “Industry Guidance for Implementing Performance-Based Option of 10 CFR 50, Appendix J,” July 2012, and conditions and limitations specified in NEI 94-01, Revision 2-A, “Industry Guidance for Implementing Performance-Based Option of 10 CFR 50, Appendix J,” October 2008, in addition to limitations and conditions of NEI 94-01, Revision 3-A. The amendments also deleted the listing of one-time exceptions previously granted to ILRT frequencies.

Date of issuance: December 30, 2015.

Effective date: As of the date of issuance and shall be implemented within 120 days from the date of issuance.

Amendment Nos.: Unit 1—165; Unit 2—165. A publicly-available version is in ADAMS under Accession No. ML15309A073; documents related to these amendments are listed in the Safety Evaluation enclosed with the amendments.

Facility Operating License Nos. NPF-87 and NPF-89: The amendments revised the Facility Operating Licenses and Technical Specifications.

Date of initial notice in Federal Register: March 31, 2015 (80 FR 17092). The supplemental letter dated July 29, 2015, provided additional information that clarified the application, did not expand the scope of the application as originally noticed, and did not change the staff's original proposed no significant hazards consideration determination as published in the Federal Register.

The Commission's related evaluation of the amendments is contained in a Safety Evaluation dated December 30, 2015.

No significant hazards consideration comments received: No.

Pacific Gas and Electric Company, Docket Nos. 50-275 and 50-323, Diablo Canyon Nuclear Power Plant, Unit Nos. 1 and 2, and Docket No. 72-26 for Diablo Canyon Independent Spent Fuel Storage Installation (ISFSI), San Luis Obispo County, California

Date of application for amendments: September 24, 2013, as supplemented by letters dated December 18, 2013, and May 15, 2014.

Brief description of amendments: The amendments modified the licenses to reflect a grant of Section 161A of the Atomic Energy Act, to authorize the licensee the authority to possess and use certain firearms, ammunition, and other devices such as large-capacity ammunition feeding devices, and to implement the NRC-approved security plan for Diablo Canyon Power Plant and Diablo Canyon ISFSI.

Date of issuance: January 5, 2016.

Effective date: As of its date of issuance and shall be implemented within 20 days.

Amendment Nos.: Unit 1—222; Unit 2—224, ISFSI-4. A publicly-available version is in ADAMS under package Accession No. ML15029A249; documents related to these amendments are listed in the Safety Evaluation enclosed with the amendments.

Facility Operating License Nos. DPR-80 and DPR-82 and Special Nuclear Materials License No. SNM-2511: The amendments revised the Facility Operating Licenses and Special Nuclear Materials License.

Date of initial notice in Federal Register: February 18, 2015 (80 FR 8706).

The Commission's related evaluation of the amendments is contained in a Safety Evaluation dated January 5, 2016.

No significant hazards consideration comments received: No.

South Carolina Electric & Gas Company, Docket Nos. 52-027 and 52-028, Virgil C. Summer Nuclear Station (VCSNS) Units 2 and 3, Fairfield County, South Carolina

Date of amendment request: September 18, 2014, and supplemented by letter dated May 28, 2015.

Description of amendment: The amendment authorizes a departure from VCSNS, Units 2 and 3 plant-specific AP1000 Design Control Document (DCD) Tier 2* material contained within the VCSNS Units 2 and 3 Updated Final Safety Analysis Report by relocating fire area rated fire barriers due to changes to the layout of the switchgear rooms and office area in the turbine building.

Date of issuance: December 17, 2015.

Effective date: As of the date of issuance and shall be implemented within 30 days of issuance.

Amendment No.: 38. A publicly-available version is in ADAMS under Accession No. ML15313A052; documents related to this amendment are listed in the Safety Evaluation enclosed with the amendment.

Facility Combined Licenses No. NPF-93 and NPF-94: Amendment revised the Facility Combined Licenses.

Date of initial notice in Federal Register: January 6, 2015 (80 FR 526).

The Commission's related evaluation of the amendment is contained in the Safety Evaluation dated December 17, 2015. The supplemental letter dated May 28, 2015, provided additional information that clarified the application, did not expand the scope of the application as originally noticed, and did not change the staff's original proposed no significant hazards consideration determination as published in the Federal Register.

No significant hazards consideration comments received: No.

Southern California Edison Company, et al., Docket Nos. 50-361, 50-362, and 72-41, San Onofre Nuclear Generating Station, Units 2 and 3, and Independent Spent Fuel Storage Installation (ISFSI), San Diego County, California

Date of amendment request: August 28, 2013, as supplemented by letters dated December 31, 2013, May 15, 2014, and February 10, 2015.

Brief description of amendments: The conforming amendments would permit the security personnel at San Onofre Nuclear Generating Station to transfer, receive possess, transport, import, and use certain firearms and large capacity ammunition feeding devices not previously permitted to be owned or possessed under NRC authority, notwithstanding certain local, state, or federal firearms laws, including regulations that prohibit such actions.

Date of issuance: January 5, 2016.

Effective date: As of its date of issuance and shall be implemented within 20 days.

Amendment Nos.: Unit 2-232 and Unit 3-225: A publicly-available version is in ADAMS under Accession No. ML15027A221; documents related to these amendments are listed in the Safety Evaluation enclosed with the amendments.

Facility Operating License Nos. NPF-10 and NPF-15: The amendments revised the Facility Operating Licenses.

Date of initial notice in Federal Register: February 18, 2015 (80 FR 8701). The supplemental letter dated February 10, 2015, provided additional information that clarified the application, did not expand the scope of the application as originally noticed, and did not change the staff's original proposed no significant hazards consideration determination as published in the Federal Register.

The Commission's related evaluation of the amendments is contained in a Safety Evaluation dated January 5, 2016.

No significant hazards consideration comments received: Yes, addressed in Safety Evaluation.

Tennessee Valley Authority (TVA), Docket No. 50-296, Browns Ferry Nuclear Plant (BFN), Unit 3, Limestone County, Alabama

Date of amendment request: January 27, 2015, as supplemented by letters dated August 13 and October 23, 2015.

Brief description of amendment: The amendment revised the Technical Specifications (TSs) for Limiting Condition for Operation (LCO) 3.4.9, “RCS [Reactor Coolant System] Pressure and Temperature (P/T) Limits.” The amendment also revised Note 1 of TS Surveillance Requirement 3.4.9.1 to change the vessel pressure from less than 312 pounds per square inch gauge (psig) to less than 313 psig to conform to the modified P/T limit curves. The amendment satisfied TVA's commitment to submit revised BFN, Unit 3, P/T limits prior to the start of the period of extended operation, as discussed in NRCs Safety Evaluation Report dated April 2006 (ADAMS Accession No. ML061030032), related to the license renewal of BFN, Units 1, 2, and 3.

Specifically, the amendment revised the current sets of TS Figures 3.4.9-1, “Pressure/Temperature Limits for Mechanical Heatup, Cooldown following Shutdown, and Reactor Critical Operations,” and 3.4.9-2, “Pressure/Temperature Limits for Reactor In-Service Leak and Hydrostatic Testing.” The amendment replaced the current set valid up to 20 effective full-power years (EFPYs) with a new set valid up to 38 EFPYs, and replaced the current set valid up to 28 EFPYs with a new set valid up to 54 EFPYs.

Effective date: As of the date of issuance and shall be implemented 60 days from the date of issuance.

Amendment No.: 278. A publicly available version is in ADAMS under Accession No. ML15344A321; documents related to this amendment are listed in the Safety Evaluation enclosed with the amendment.

Renewed Facility Operating License No. DPR-68: Amendment revised the Renewed Facility Operating License and TSs.

Date of initial notice in Federal Register: May 5, 2015 (80 FR 25720). The supplemental letters dated August 13 and October 23, 2015, provided additional information that clarified the application, did not expand the scope of the application as originally noticed, and did not change the staff's original proposed no significant hazards consideration determination as published in the Federal Register.

The Commission's related evaluation of the amendment is contained in a Safety Evaluation dated January 7, 2016.

No significant hazards consideration comments received: Yes. The comment received on Amendment No. 278 is addressed in the Safety Evaluation dated January 7, 2016.

Dated at Rockville, Maryland, this 21st day of January 2016.
For the Nuclear Regulatory Commission.
Anne T. Boland,
Director, Division of Operating Reactor Licensing, Office of Nuclear Reactor Regulation.

[FR Doc. 2016-01771 Filed 2-1-16; 8:45 am]

BILLING CODE 7590-01-P